DEPARTMENT OF ENERGY

Biological and Environmental Research Advisory Committee

AGENCY: Office of Science, Department of Energy.

ACTION: Notice of renewal.

SUMMARY: Pursuant to Section 14(a)(2)(A) of the Federal Advisory Committee Act, (Pub. L. 92-463), and in accordance with Title 41, Code of Federal Regulations, Section 102-3.65(a), and following consultation with the Committee Management Secretariat, General Services Administration, notice is hereby given that the Biological and Environmental Research Advisory Committee will be renewed for a two-year period, beginning December 13, 2013.

The Committee provides advice and recommendations to the Director, Office of Science on the biological and environmental research programs.

Additionally, the renewal of the BERAC has been determined to be essential to conduct business of the Department of Energy and to be in the public interest in connection with the performance of duties imposed upon the Department of Energy, by law and agreement. The Committee will continue to operate in accordance with the provisions of the Federal Advisory Committee Act, adhering to the rules and regulations issued in implementation of that Act.

FOR FURTHER INFORMATION CONTACT: Dr. David Thomassen, Designated Federal Officer, at (301) 903-9817.

Issued in Washington, DC on December 13, 2013.
Carol A. Matthews,
Committee Management Officer.

[FR Doc. 2013-30298 Filed 12-19-13; 8:45 am]

BILLING CODE 6450-01-P